DEPARTMENT OF HOMELAND SECURITY

Coast Guard

33 CFR Part 117

[USCG-2008-0169]

RIN 1625-AA-09

Drawbridge Operation Regulations; Atlantic Intracoastal Waterway (AIWW), Wrightsville Beach; Cape Fear and Northeast Cape Fear Rivers, Both in Wilmington, NC

AGENCY: Coast Guard, DHS.

ACTION: Notice of Temporary Deviation from Regulations.

SUMMARY: The Commander, Fifth Coast Guard District, has issued a temporary deviation from the regulation governing the operation of three North Carolina Department of Transportation (NCDOT) drawbridges: The S.R. 74 Bridge, across the Atlantic Intracoastal Waterway mile 283.1 at Wrightsville Beach, NC; the Cape Fear River Memorial Bridge at mile 26.8, and the Isabel S. Holmes Bridge, at mile 1.0, across Northeast Cape Fear River both in Wilmington, NC, to accommodate distance races.

DATES: This deviation is effective from 7 a.m. to 11:59 p.m. on November 1, 2008.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6629. Commander (dpb), Fifth Coast Guard District maintains the public docket for this temporary deviation.

FOR FURTHER INFORMATION CONTACT: Mr. Gary S. Heyer, Bridge Management Specialist, Fifth Coast Guard District, at (757) 398-6629.

SUPPLEMENTARY INFORMATION: The S.R. 74 Bridge across the Atlantic Intracoastal Waterway (AIWW) mile 283.1 at Wrightsville Beach, a lift drawbridge, has a vertical clearance in the closed position to vessels of 20 feet, above mean high water (MHW). The Cape Fear River Memorial Bridge, a vertical lift drawbridge, has vertical clearances in full open and closed positions to vessels of 135 feet and 65 feet above MHW, respectively. The Isabel S. Holmes Bridge, at mile 1.0, across Northeast Cape Fear River, a lift drawbridge, has a vertical clearance in the closed position to vessels of 40 feet above MHW.

The Wilmington Family YMCA on behalf of the NCDOT (the bridge owner) requested a temporary deviation from the current operating regulations of the aforementioned bridges set out in 33 CFR 117.821(a)(5), 33 CFR 117.823 and 33 CFR 117.829(a), respectively, to accommodate “The Carolinian” Iron and Half-Iron distance races scheduled for Saturday, November 1, 2008.

The Coast Guard will inform the users of the waterways through our Local and Broadcast Notices to Mariners of the closure periods for the bridges so that vessels can arrange their transits to minimize any impact caused by the temporary deviation.

To facilitate the races, the drawbridges will be maintained in the closed-to-navigation position on November 1, 2008, at the following times: From 7 a.m. to 10 a.m. for the S.R. 74 Bridge; from 11 a.m. to 11:59 p.m. for the Cape Fear River Memorial Bridge; and from 8 a.m. to 11:59 p.m. for the Isabel S. Holmes Bridge.

In accordance with 33 CFR 117.35(e), the drawbridges must return to its regular operating schedule immediately at the end of the designated time period. This deviation from the operating regulations is authorized under 33 CFR 117.35.

We analyzed this temporary deviation under Commandant Instruction M16475.lD which guides the Coast Guard in complying with the National Environmental Policy Act of 1969 (NEPA) (42 U.S.C. 4321-4370f). The environmental impact that this temporary deviation will have is minimal because holding the drawbridges in the closed position for a limited period, for a public function, will not result in a change in functional use, or an impact on a historically significant element or setting.

Dated: March 5, 2008.
Waverly W. Gregory, Jr.,
Chief, Bridge Administration, Branch, Fifth Coast Guard District.

[FR Doc. E8-5127 Filed 3-13-08; 8:45 am]

BILLING CODE 4910-15-P